DEPARTMENT OF THE INTERIOR

National Park Service

Notice of Intent to Repatriate Cultural Items in the Possession of the Milwaukee Public Museum, Milwaukee, WI

AGENCY: National Park Service, Interior.

ACTION: Notice.

Notice is hereby given under the Native American Graves Protection and Repatriation Act, 25 U.S.C. 3005(1) (2), of the intent to repatriate cultural items in the possession of the Milwaukee Public Museum that meet the definition of “cultural patrimony” under Section 2 of the Act.

This notice is published as part of the National Park Service’s administrative responsibilities under NAGPRA, 43 CFR 10.2 (c). The determinations within this notice are the sole responsibility of the museum, institution, or Federal agency that has control of these cultural items. The National Park Service is not responsible for the determinations within this notice.

The cultural items are a set of five Dilzini Gaan masks and a medicine staff. The cultural items were collected by Otto Schoenberg in April 1903 and were purchased by the Milwaukee Public Museum in January 1904. Correspondence accompanying the purchase specifically describes the use of these cultural items in ceremonies performed at Fort Apache, AZ, in 1903.

Authorized representatives of the White Mountain Apache Tribe of the Fort Apache Reservation, Arizona, have identified these cultural items as having ongoing historical, traditional, and cultural importance central to the White Mountain Apache Tribe of the Fort Apache Reservation, Arizona, and as communal property of the people of the White Mountain Apache Tribe of the Fort Apache Reservation, Arizona, which could not have been legally alienated, appropriated, or conveyed by any individual.

This notice has been sent to officials of the White Mountain Apache Tribe of the Fort Apache Reservation, Arizona. Representatives of any other Indian Tribe that believes itself to be culturally affiliated with this object should contact Alex W. Barker, Ph.D., Curator of North American Archaeology and Section Head, Anthropology, Milwaukee Public Museum, 800 West Wells Street, Milwaukee WI 53233, telephone (414) 278-2786, facsimile (414) 278-6100, before February 11, 2002. Repatriation of these items of cultural patrimony to the White Mountain Apache Tribe of the Fort Apache Reservation, Arizona, can begin after that date if no additional claimants come forward.

Dated: December 13, 2001.
Robert Stearns,
Program Manager, National NAGPRA Program.

[FR Doc. 02-736 Filed 1-10-02; 8:45 am]

BILLING CODE 4310-70-S